DEPARTMENT OF THE INTERIOR

Fish and Wildlife Service

Notice of Intent to Consult under Section 8 of the Native American Graves Protection and Repatriation Act on an Object of Cultural Patrimony in the Possession of the U.S. Department of the Interior, Fish and Wildlife Service, Washington, DC, and in the Control of the U.S. Department of the Interior, Washington, DC.

AGENCY: Fish and Wildlife Service, Department of the Interior.

ACTION: Notice.

SUMMARY: Notice is hereby given in accordance with provisions of the Native American Graves Protection and Repatriation Act (NAGPRA), 43 CFR 10.8, of the intent to consult on affiliation with an object of cultural patrimony in the possession of the U.S. Fish and Wildlife Service, Washington, DC, and in the control of the U.S. Department of the Interior, Washington, D.C.

DATES: Information and comments must be submitted by October 29, 2002.

ADDRESSES: Please submit written comments to the Director, Fish and Wildlife Service, 1849 C Street, NW., Washington, DC 20240, attention: Kevin Kilcullen.

FOR FURTHER INFORMATION, CONTACT: Mr. Kevin Kilcullen, Service Archaeologist, at (703) 358-2029.

SUPPLEMENTARY INFORMATION: The object in question is a headdress that is allegedly associated with the Apache Chief Geronimo and the Commanche Tribe of Oklahoma. The headdress was forfeited to the United States Government in November 2001 as part of a guilty plea agreement resulting from an attempt to sell it in violation of Sections 703 and 707(a) of the Migratory Bird Treaty Act. After consulting with various parties, the United States District Court for the Eastern District of Pennsylvania ruled that the forfeited object would be turned over to the Department of the Interior for care and disposition under the NAGPRA. The headdress is ornamented with golden eagle feathers and is now under the control of the Department and in the possession of the U.S. Fish and Wildlife Service.

An initial assessment of the object indicates that it was likely manufactured during the first decade of the 20th Century. Documentation submitted to the Court during the trial alleges that the headdress was manufactured for use in “The Last Pow-Wow,” a gathering of tribal chiefs, which occurred in 1907 in Collinsville, Indian Territory, which is now the State of Oklahoma. The Commanche Chief Quannah Parker purportedly offered the headdress to the Apache Chief Geronimo for use during the event. Other documentation submitted for the Court's consideration alleges that Chief Geronimo took possession of the headdress and subsequently gave it to his Government escort, Jack Moore, as an act of friendship. After Geronimo's death in 1909, Jack Moore allegedly gave the headdress to an acquaintance, whose family retained the object until an attempt was made to sell it illegally in 1999.

The Department of the Interior is attempting to repatriate this object of cultural patrimony to the appropriate tribe or individual using the process found in Subpart C, 43 CFR 10.8 of NAGPRA's regulations.

In order for the Department to fulfill its legal obligations, we are requesting information on the following issues to help in determining the proper affiliation for this object.

1. With regard to affiliation, we are seeking to discover:

a. The appropriate tribal affiliation with this headdress;

b. the nature of that relationship; and

c. how the relationship was determined.

2. Recommendations on how the consultation process should be conducted.

3. The name and address of and appropriate methods to contact Tribal officials to act as representatives during the consultation process.

4. The names of any lineal descendants of individuals who may have an interest or association with this object.

5. The names and appropriate methods to contact traditional religious leaders who should be consulted regarding this object.

6. A description of the kinds of objects of cultural patrimony that your tribe believes to have been made exclusively for ceremonial and other uses.

Interested parties should be aware that this notice is advisory and for the purpose of gathering information to help the Department reach a determination of affiliation. Contact for the purpose of consultation is not recognition of affiliation. We are, however, interested in the views of tribes, individuals, and other interested parties that might be helpful in determining proper affiliation of the object in question.

A letter and a copy of this notice have been sent to officials of the Mescalero Apache Tribe, Apache Tribe of Oklahoma, and Commanche Indian Tribe. A similar public notice requesting comments has been published in major newspapers in the State of Oklahoma.

Dated: July 23, 2002.
Marshall P. Jones, Jr.,
Deputy Director, Fish and Wildlife Service.

[FR Doc. 02-22135 Filed 8-29-02; 8:45 am]

BILLING CODE 4310-55-U